DEPARTMENT OF HOUSING AND URBAN DEVELOPMENT

[Docket No. FR-5375-N-26]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Coast Guard: Commandant, United States Coast Guard, Attn: Jennifer Stomber, 2100 Second St., SW., Stop 7901, Washington, DC 20593-0001; (202) 475-5609; Energy: Mr. Mark Price, Department of Energy, Office of Engineering & Construction Management, MA-50, 1000 Independence Ave, SW., Washington, DC 20585: (202) 586-5422; GSA: Mr. Gordon Creed, Acting Deputy Assistant Commissioner, General Services Administration, Office of Property Disposal, 18th & F Streets, NW., Washington, DC 20405; (202) 501-0084; Interior: Mr. Michael Wright, Acquisition & Property Management, Department of the Interior, 1849 C Street, NW., Washington, DC 20240: (202) 208-5399; Navy: Mr. Albert Johnson, Director of Real Estate, Department of the Navy, Naval Facilities Engineering Command, Washington Navy Yard, 1330 Patterson Ave., SW., Suite 1000, Washington, DC 20374; (202) 685-9305; (These are not toll-free numbers).

Dated: July 1, 2010.
Mark R. Johnston,
Deputy Assistant Secretary for Special Needs.

Title V, Federal Surplus Property Program Federal Register Report For 07/09/2010

Suitable/Available Properties

Building

Colorado

Bldg. 6506

US Air Force Academy

El Paso CO 80840

Landholding Agency: Air Force

Property Number: 18201020019

Status: Unutilized

Comments: 2222 sq. ft.

New York

Bldg. 606

NSU Saratoga Springs

Scotia NY 12302

Landholding Agency: Navy

Property Number: 77201020019

Status: Excess

Comments: 137,409 sq. ft on 5.76 acres; most recent use: Navy exchange and storage

Ohio

Army Reserve Center

5301 Hauserman Rd.

Parma Co: Cuyahoga OH 44130

Landholding Agency: GSA

Property Number: 54201020009

Status: Excess

GSA Number: I-D-OH-842

Comments: 29, 212, and 6,097 sq. ft.; most recent use: office, storage, classroom, and drill hall; water damage on 2nd floor; and wetland property

2LT George F. Pennington USARC

2164 Harding Hwy. E.

Marion OH 43302

Landholding Agency: GSA

Property Number: 54201020010

Status: Excess

GSA Number: I-D-OH-838

Comments: 4,396 and 1,325 sq. ft; current use: office and storage; asbestos identified

Washington

Fox Island Naval Lab

630 3rd Ave.

Fox Island Co: Pierce WA 98333

Landholding Agency: GSA

Property Number: 54201020012

Status: Surplus

GSA Number: 9-D-WA-1245

Comments: 6405 sq. ft.; current use: office and lab

West Virginia

Harley O. Staggers Bldg.

75 High St.

Morgantown WV 26505

Landholding Agency: GSA

Property Number: 54201020013

Status: Excess

GSA Number: 4-G-WV-0557

Comments: 57,600 sq. ft; future owners must maintain exposure prevention methods (details in deed); most recent use: P.O. and federal offices

Unsuitable Properties

Building

California

Bldgs. 3053, 3135, 3591, 3592

Naval Base

San Diego CA

Landholding Agency: Navy

Property Number: 77201020022

Status: Excess

Reasons: Secured Area

Bldg. 210

Coast Guard Training Center

Petaluma CA 94952

Landholding Agency: Coast Guard

Property Number: 88201020002

Status: Unutilized

Reasons: Extensive deterioration Secured Area

Bldg. 220

Coast Guard Training Center

Petaluma CA 95452

Landholding Agency: Coast Guard

Property Number: 88201020003

Status: Unutilized

Reasons: Secured Area

Maryland

Bldg. 1353

Naval Air Station

Patuxent River MD

Landholding Agency: Navy

Property Number: 77201020016

Status: Excess

Reasons: Extensive deterioration

Massachusetts

Albano House

Minute Man Natl Hist Park

Concord MA 01742

Landholding Agency: Interior

Property Number: 61201020013

Status: Unutilized

Reasons: Extensive deterioration

Nevada

4 Bldgs.

Naval Air Station

Fallon NV 89496

Landholding Agency: Navy

Property Number: 77201020017

Status: Underutilized

Directions: 305, 306, 310, and 319

Reasons: Extensive deterioration

New Jersey

Bldg. 544

Naval Weapons Station

Colts Neck NJ 07722

Landholding Agency: Navy

Property Number: 77201020018

Status: Unutilized

Reasons: Extensive deterioration, Secured Area, Within 2000 ft. of flammable or explosive material

New Mexico

4 Bldgs.

Los Alamos National Lab

Los Alamos NM 87545

Landholding Agency: Energy

Property Number: 41201020010

Status: Unutilized

Directions: 03-1525, 03-1540, 15-0027, 21-8002

Reasons: Within 2000 ft. of flammable or explosive material Secured Area

9 Bldgs.

Los Alamos National Lab

Los Alamos NM 87545

Landholding Agency: Energy

Property Number: 41201020011

Status: Unutilized

Directions: 33-0129, 35-0250, 36-0005, 36-0006, 37-0006, 37-0008, 37-0009, 37-0019, 37-0020

Reasons: Within 2000 ft. of flammable or explosive material Secured Area

12 Bldgs.

Los Alamos National Lab

Los Alamos NM 87545

Landholding Agency: Energy

Property Number: 41201020012

Status: Unutilized

Directions: 41-0004, 43-0020, 43-0037, 43-0045, 46-0001, 46-0036, 46-0075, 46-0119, 46-0178, 46-0201, 46-0342, 48-0203

Reasons: Secured Area, Within 2000 ft. of flammable or explosive material

4 Bldgs.

Los Alamos National Lab

Los Alamos NM 87545

Landholding Agency: Energy

Property Number: 41201020013

Status: Unutilized

Directions: 55-0125, 57-0041, 57-0077, 57-0082

Reasons: Secured Area, Within 2000 ft. of flammable or explosive material

3 Bldgs.

Los Alamos National Lab

Los Alamos NM 87545

Landholding Agency: Energy

Property Number: 41201020014

Status: Unutilized

Directions: 63-0113, 63-0114, 64-0045

Reasons: Secured Area, Within 2000 ft. of flammable or explosive material

New York

Bldg. 480A

Brookland Nat'l Lab

Upton NY 11973

Landholding Agency: Energy

Property Number: 41201020009

Status: Excess

Reasons: Extensive deterioration Within 2000 ft. of flammable or explosive material

Oregon

Lowell Admin. Compound

60 South Pioneer St.

Lowell OR 97452

Landholding Agency: GSA

Property Number: 54201020011

Status: Excess

GSA Number: 9-D-OR-077

Reasons: Floodway

Virgin Islands

Plot 327

Christiansted VI

Landholding Agency: Interior

Property Number: 61201020014

Status: Unutilized

Reasons: Floodway

Washington

Bldg. 17A

Naval Air Station

Oak Harbor WA 98278

Landholding Agency: Navy

Property Number: 77201020020

Status: Excess

Reasons: Extensive deterioration

5 Bldgs.

Naval Air Station

Oak Harbor WA 98278

Landholding Agency: Navy

Property Number: 77201020021

Status: Excess

Directions: 2506, 2744, 2745, 2746, and 2809

Reasons: Secured Area, Extensive deterioration

Land

Colorado

3 Parcels

5679, 5859, 6104

Olathe CO 81425

Landholding Agency: Interior

Property Number: 61201020012

Status: Excess

Reasons: Other—landlocked

[FR Doc. 2010-16507 Filed 7-8-10; 8:45 am]

BILLING CODE 4210-67-P